DEPARTMENT OF THE INTERIOR

Bureau of Land Management

[ES-030-1430-00] ES-50582, Group 547, Minnesota

Notice of filing of plat of an island; Minnesota

1. The plat of the survey of an island in Cedar Lake, Township 117 North, Range 30 West, Fifth Principal Meridian, Minnesota, accepted on January 6, 2000, will be officially filed in Eastern States, Springfield, Virginia at 7:30 a.m., on February 22, 2000. The tract shown below describes the island omitted from the original survey.

Fifth Principal Meridian, Minnesota

T. 117 N. R. 30 W.

Tract No. 42.

2. Tract No. 42 is firm land rising 10-15 ft. above the ordinary high water mark. The soil has evolved from glacial till parent material and is similar to the soil found on the adjacent uplands. Numerous stones were located along the northerly and westerly shore line and at the highest points of the island. Tree species consist of ash, basswood, cedar, cottonwood, elm, oak and willow, ranging in size from 3 to 20 inches in diameter, with a maximum age of 120+ years. The ground cover consists of hazel, willow, cattails and native grasses along the southerly shore line.

3. The present water level of the lake compares favorably with that of the lake at the time of the original survey; therefore, the elevation and upland character of the island along with the depth and width of the lake between the adjacent upland and the island are considered evidence that the island did exist in 1858, the year Minnesota was admitted to the Union. The original survey in 1857 did not note the presence of this island.

4. Tract No. 42 is more than 50 percent upland in character within the interpretation of the Swamp and Overflow Act of September 28, 1850 (9 Stat. 519) as extended to the State of Minnesota under the Act of March 12, 1860 (12 Stat. 3). Therefore, the island is held to be public land.

5. The survey was requested by the Assistant Field Manager, Division of Natural Resource Management, under the authority of Section 211 of FLPMA (43 U.S.C. 1721) and the Minnesota Public Lands Improvement Act of 1990, Public Law 101-442 (104 Stat. 1020).

6. Except for valid existing rights, this island will not be subject to application, petition, location or selection under any public law until February 22, 2000.

7. Interested parties protesting the determination that these islands are public land of the United States, must present valid proof showing that the island in question did not exist at the time of statehood or that it was attached to the mainland at the time of the original survey. Such protests must be submitted in writing to the Chief Cadastral Surveyor, Eastern States, Bureau of Land Management, 7450 Boston Boulevard, Springfield, Virginia 22153, prior to 7:30 a.m., February 22, 2000.

Copies of the plat will be made available upon request and prepayment of the appropriate fee.

Dated: January 6, 2000.
Stephen G. Kopach,
Chief Cadastral Surveyor.

[FR Doc. 00-1115 Filed 1-14-00; 8:45 am]

BILLING CODE 4310-GJ-P